DEPARTMENT OF ENERGY

Federal Energy Regulatory Commission

Combined Notice of Filings # 1

March 24, 2010.

Take notice that the Commission received the following electric corporate filings:

Docket Numbers: EC10-55-000.

Applicants: Noble Chateaugay Windpark, LLC, Noble Ellenburg Windpark, LLC, Noble Clinton Windpark I, LLC, Noble Altona Windpark, LLC.

Description: Application for Authorization of Transfer of Certain Limited Interconnection Facilities under Section 203 of the Federal Power Act, and Request for Waivers of Filing Requirements.

Filed Date: 03/24/2010.

Accession Number: 20100324-5032.

Comment Date: 5 p.m. Eastern Time on Wednesday, April 14, 2010.

Take notice that the Commission received the following electric rate filings:

Docket Numbers: ER03-198-014.

Applicants: Pacific Gas and Electric Company.

Description: Pacific Gas and Electric Company Notice of Non-Material Change in Status.

Filed Date: 03/24/2010.

Accession Number: 20100324-5037.

Comment Date: 5 p.m. Eastern Time on Wednesday, April 14, 2010.

Docket Numbers: ER04-449-022.

Applicants: New York Independent System Operator, Inc.

Description: ISO New York Independent System Operator submits proposed modifications.

Filed Date: 03/23/2010.

Accession Number: 20100323-0233.

Comment Date: 5 p.m. Eastern Time on Tuesday, April 13, 2010.

Docket Numbers: ER10-495-001.

Applicants: Midwest Independent Transmission System Operator, Inc.

Description: Midwest Independent Transmission System Operator, Inc submits a revised fully executed Amended and Restated Large Generator Interconnection Agreement with Pemeroy Wind Farm, LLC.

Filed Date: 03/22/2010.

Accession Number: 20100323-0202.

Comment Date: 5 p.m. Eastern Time on Monday, April 12, 2010.

Docket Numbers: ER10-662-001.

Applicants: CER Generation, LLC.

Description: CER Generation, LLC submits amendment to application for Blanket Authorizations, Certain Waivers and Order Approving Market Based Rate Tariff and Request for Expedited Consideration.

Filed Date: 03/19/2010.

Accession Number: 20100322-0203.

Comment Date: 5 p.m. Eastern Time on Monday, March 29, 2010.

Docket Numbers: ER10-727-001.

Applicants: AEP Retail Energy Partners LLC.

Description: AEP Retail Energy Partners LLC submits the results of the Commission's market power screen and pivotal supplier screen for the PJM balancing authority to their February 12, 2010.

Filed Date: 03/23/2010.

Accession Number: 20100324-0204.

Comment Date: 5 p.m. Eastern Time on Tuesday, March 30, 2010.

Docket Numbers: ER10-769-002.

Applicants: Glenwood Energy Partners, LTD.

Description: Glenwood Energy Partners, LTD submits petition for acceptance of Initial Rate Schedule, Waivers and Blanket Authority.

Filed Date: 03/23/2010.

Accession Number: 20100324-0206.

Comment Date: 5 p.m. Eastern Time on Tuesday, April 13, 2010.

Docket Numbers: ER10-792-001.

Applicants: TC Energy Trading, LLC.

Description: TC Energy Trading, LLC submits Substitute Original Sheet No 3 to its market based rate application.

Filed Date: 03/22/2010.

Accession Number: 20100323-0206.

Comment Date: 5 p.m. Eastern Time on Monday, April 12, 2010.

Docket Numbers: ER10-812-001.

Applicants: Power Choice, Inc.

Description: Amendment to Application of Power Choice Inc.

Filed Date: 03/24/2010.

Accession Number: 20100324-5002.

Comment Date: 5 p.m. Eastern Time on Wednesday, April 14, 2010.

Docket Numbers: ER10-899-000.

Applicants: Consulting Gasca & Associates, LLC.

Description: Consulting Gasca & Associates, LLC submits a Petition for Acceptance of Initial Tariff, Waivers and Blanket Authority.

Filed Date: 03/24/2010.

Accession Number: 20100324-0215.

Comment Date: 5 p.m. Eastern Time on Wednesday, April 14, 2010.

Docket Numbers: ER10-912-000.

Applicants: NASDAQ OMX Commodities Clearing—Contract Merchant LLC.

Description: NASDAQ OMX Commodities Clearing—Contract Merchant LLC submits application for authorization to make market-based wholesale sales of energy, capacity under FERC Electric Tariff, Original Volume 1, effective 3/24/10.

Filed Date: 03/23/2010.

Accession Number: 20100324-0207.

Comment Date: 5 p.m. Eastern Time on Tuesday, April 13, 2010.

Docket Numbers: ER10-913-000.

Applicants: NASDAQ OMX Commodities Clearing—Delivery LLC.

Description: NASDAQ OMX Commodities Clearing—Delivery LLC submits application for authorization to make market based wholesale sales of energy, capacity, etc to be effective 3/24/2010.

Filed Date: 03/23/2010.

Accession Number: 20100324-0208.

Comment Date: 5 p.m. Eastern Time on Tuesday, April 13, 2010.

Docket Numbers: ER10-914-000.

Applicants: NASDAQ OMX Commodities Clearing—Finance LLC.

Description: NASDAQ OMX Commodities Clearing—Finance LLC submits its application for authorization to make market-based wholesale sales of energy, capacity, and certain ancillary services etc.

Filed Date: 03/23/2010.

Accession Number: 20100324-0209.

Comment Date: 5 p.m. Eastern Time on Tuesday, April 13, 2010.

Docket Numbers: ER10-918-000.

Applicants: Maine Public Service Company.

Description: Maine Public Service Company submits Original Sheet No 34 et al to FERC Electric Rate Schedule 30 with Algonquin Northern Maine Gen Co.

Filed Date: 03/22/2010.

Accession Number: 20100323-0204.

Comment Date: 5 p.m. Eastern Time on Monday, April 12, 2010.

Docket Numbers: ER10-919-000.

Applicants: ISO New England Inc.

Description: ISO New England, Inc et al submits an executed non-confirming Standard Large Generator Interconnection Agreement.

Filed Date: 03/22/2010.

Accession Number: 20100323-0203.

Comment Date: 5 p.m. Eastern Time on Monday, April 12, 2010.

Docket Numbers: ER10-920-000.

Applicants: Maine Public Service Company.

Description: Maine Public Service Company submits revised executed interconnection agreement with Algonquin Northern Maine Gen Co etc.

Filed Date: 03/22/2010.

Accession Number: 20100323-0201.

Comment Date: 5 p.m. Eastern Time on Monday, April 12, 2010.

Docket Numbers: ER10-921-000.

Applicants: Indiana Michigan Power Company.

Description: Indiana Michigan Power Company submits Notice of Cancellation of Service Agreement 4, First Revised Sheet 1.

Filed Date: 03/23/2010.

Accession Number: 20100323-0231.

Comment Date: 5 p.m. Eastern Time on Tuesday, April 13, 2010.

Docket Numbers: ER10-922-000.

Applicants: Cleco Power LLC.

Description: Cleco Power LLC submits an Electric System Interconnection Agreement.

Filed Date: 03/23/2010.

Accession Number: 20100323-0232.

Comment Date: 5 p.m. Eastern Time on Tuesday, April 13, 2010.

Docket Numbers: ER10-924-000.

Applicants: Noble Americas Gas & Power Corp.

Description: Noble Americas Gas & Power Corp submits notice of succession to reflect its succession to and adoption of Noble Energy Marketing & Trades Corp's Rate Schedule No 1.

Filed Date: 03/23/2010.

Accession Number: 20100324-0201.

Comment Date: 5 p.m. Eastern Time on Tuesday, April 13, 2010.

Docket Numbers: ER10-925-000.

Applicants: Southwest Power Pool, Inc.

Description: Southwest Power Pool, Inc submits an executed Large Generator Interconnection Agreement with Laredo Ridge Wind, LLC.

Filed Date: 03/23/2010.

Accession Number: 20100324-0202.

Comment Date: 5 p.m. Eastern Time on Tuesday, April 13, 2010.

Docket Numbers: ER10-927-000.

Applicants: PPL Southwest Generation Holdings, LLC.

Description: PPL Southwest Generation Holdings, LLC submits Notice of Cancellation of its FERC Electric Tariff, Original Volume 1.

Filed Date: 03/24/2010.

Accession Number: 20100324-0214.

Comment Date: 5 p.m. Eastern Time on Wednesday, April 14, 2010.

Docket Numbers: ER10-928-000.

Applicants: WPS Empire State, Inc.

Description: WPS Empire State, Inc submits the Notice of Cancellation re market-based rate tariff, FERC Electric Tariff, Third Revised Volume No. 1.

Filed Date: 03/24/2010.

Accession Number: 20100324-0213.

Comment Date: 5 p.m. Eastern Time on Wednesday, April 14, 2010.

Docket Numbers: ER10-929-000.

Applicants: ISO New England Inc., New England Power Pool.

Description: ISO New England submits transmittal letter and revised tariff sheets that clarify certain provisions of Market Rule 1 etc.

Filed Date: 03/24/2010.

Accession Number: 20100324-0212.

Comment Date: 5 p.m. Eastern Time on Wednesday, April 14, 2010.

Take notice that the Commission received the following open access transmission tariff filings:

Docket Numbers: OA08-62-006.

Applicants: California Independent System Operator Corporation.

Description: California Independent System Operator Corp submits a compliance filing pursuant to the Commission's 1/21/10 Order.

Filed Date: 03/22/2010.

Accession Number: 20100323-0205.

Comment Date: 5 p.m. Eastern Time on Monday, April 12, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. 2010-7135 Filed 3-30-10; 8:45 am]

BILLING CODE 6717-01-P